DEPARTMENT OF COMMERCE

National Oceanic and Atmospheric Administration

[I.D. 071702B]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council), its Protected Resources Committee, and its Demersal Species Committee meeting as a Council Committee of the Whole with the Atlantic States Marine Fisheries Commission’s (ASMFC) Summer Flounder, Scup and Black Sea Bass Board, and Bluefish Board(s), and its Executive Committee will hold a public meeting.

DATES: The meetings will be held on Tuesday, August 6, to Thursday, August 8, 2002. See SUPPLEMENTARY INFORMATION for specific dates and times.

ADDRESSES: This meeting will be held at the Sheraton Society Hill, One Dock Street, Philadelphia, PA; telephone: 215-238-6000.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: On Tuesday, August 6, the Protected Resources Committee will meet from 9:30-10:30 a.m. There will be a report of the 35th Stock Assessment Review Committee (SARC) from 10:30 a.m. until 12:30 p.m. The Council will meet jointly with the ASMFC’s Summer Flounder, Scup, and Black Sea Bass Board from 1:30-5:00 p.m. regarding scup specifications for 2003. On Wednesday, August 7, the Council will meet jointly with the ASMFC’s Summer Flounder, Scup and Black Sea Bass Board from 8 a.m. until 3 p.m. regarding summer flounder and black sea bass specifications for 2003. The Council will meet with the ASMFC’s Bluefish Board from 3 p.m. to 5 p.m. regarding 2003 specifications. On Thursday, August 8, Council will meet from 8:30 a.m. until 2 p.m.

Agenda items for the committees and Council meetings are:

The Protected Resources Committee will review the status of NMFS action regarding white marlin; review SARC reports on summer flounder, scup, and silver hake;

The Council and ASMFC’s Summer Flounder, Scup, Black Sea Bass, and Bluefish Board(s) will review Monitoring Committee recommendations regarding the 2003 harvest level and commercial management measures, and recommend the 2003 harvest level and commercial management measures for scup, summer flounder, black sea bass, and bluefish; receive and discuss organizational and committee reports including the New England Council's report regarding possible actions on herring, groundfish, monkfish, red crab, scallops, skates, and whiting; and, under continuing business the Council will discuss Russian research proposal for mackerel and its total allowable level of foreign fishing (TALFF) implications.

Although non-emergency issues not contained in this agenda may come before the Council and ASMFC for discussion, these issues can not be the subject of formal Council action during this meeting. Council action will be restricted to those issues specifically listed in this notice and any issues arising after publication of this notice that require emergency action under section 305(c) of the Magnuson-Stevens Act, provided the public has been notified of the Council’s intent to take final action to address the emergency.

Special Accommodations

This meeting is physically accessible to people with disabilities. Requests for sign language interpretation or other auxiliary aids should be directed to Joanna Davis at the Council (see ADDRESSES) at least 5 days prior to the meeting date.

Dated: July 17, 2002.
Richard W. Surdi,
Acting Director, Office of Sustainable Fisheries, National Marine Fisheries Service.

[FR Doc. 02-18590 Filed 7-22-02; 8:45 am]

BILLING CODE 3510-22-S